DEPARTMENT OF LABOR

Office of Workers' Compensation Programs

20 CFR Part 702

RIN 1240-AA13

Longshore and Harbor Workers' Compensation Act: Electronic Filing, Settlement, and Civil Money Penalty Procedures

AGENCY: Office of Workers' Compensation Programs, Labor.

ACTION: Withdrawal of direct final rule.

SUMMARY: On December 14, 2020, the Office of Workers' Compensation Programs (OWCP) published a direct final rule in the Federal Register revising regulations governing electronic filing and settlements, and establishing new procedures for assessing and adjudicating penalties under the Longshore and Harbor Workers' Compensation Act (LHWCA). Consistent with the Presidential directive as expressed in the memorandum of January 20, 2021, from the Assistant to the President and Chief of Staff, entitled “Regulatory Freeze Pending Review,” OWCP is withdrawing the direct final rule.

DATES: Effective February 9, 2021, the direct final rule published at 85 FR 80601 on December 14, 2020, is withdrawn.

FOR FURTHER INFORMATION CONTACT: Antonio Rios, Director, Division of Federal Employees', Longshore and Harbor Workers' Compensation, Office of Workers' Compensation Programs, (202)-693-0040, rios.antonio@dol.gov. TTY/TDD callers may dial toll free 1-877-889-5627 for further information.

SUPPLEMENTARY INFORMATION: On December 14, 2020, OWCP published a direct final rule entitled Longshore and Harbor Workers' Compensation Act: Electronic Filing, Settlement, and Civil Money Penalty Procedures, 85 FR 80601. This rule would revise the LHWCA regulations governing electronic filing and settlements, and establish new procedures for assessing and adjudicating penalties under the LHWCA. The comment period for the rule expires on February 12, 2021, and the rule will become effective March 15, 2021, unless OWCP withdraws it prior to then. OWCP stated that it would withdraw the rule if it received significant adverse public comment on either the direct final rule or a simultaneously published companion notice of proposed rulemaking. See 85 FR 80698 (Dec. 14, 2020).

A new administration assumed office on January 20, 2021. On that same date, the Assistant to the President and Chief of Staff issued a memorandum entitled “Regulatory Freeze Pending Review” to the Heads of Executive Departments and Agencies. 86 FR 7424 (Jan. 28, 2021). The purpose of the memorandum was “to ensure that the President's appointees or designees have the opportunity to review any new or pending rules.” Id. The memorandum directs agencies to consider pausing or delaying certain regulatory actions for the purpose of reviewing questions of fact, law, and policy raised therein. OWCP believes that the most efficient way to implement the memorandum in this instance is to withdraw the rule rather than delay the effective date. The comment period is still open and if OWCP receives any significant adverse comment, it would have to withdraw the rule anyway. Withdrawing the rule will also give the new administration time to review the rule and consider the policies it implements. OWCP is simultaneously withdrawing the companion notice of proposed rulemaking. OWCP intends to offer the public an opportunity to comment on the topics addressed at a later time.

Accordingly, the final rule amending 20 CFR part 702 published in the Federal Register on December 14, 2020 (85 FR 80601) are withdrawn as of February 9, 2021.

Christopher J. Godfrey,
Director, Office of Workers' Compensation Programs.

[FR Doc. 2021-02723 Filed 2-8-21; 8:45 am]

BILLING CODE 4510-CR-P